DEPARTMENT OF COMMERCE

International Trade Administration

[Docket No. 120913451-2681-02]

Call for Applications for the International Buyer Program Calendar Years 2014 and 2015

AGENCY: International Trade Administration, Department of Commerce.

ACTION: Notice extending application deadline.

SUMMARY: The U.S. Department of Commerce (DOC) is amending the Notice and Call for Applications for the International Buyer Program (IBP) for calendar year 2014 (January 1, 2014 through December 31, 2014) published at 77 FR 61,740 (Oct. 11, 2012) to extend the deadline for receipt of applications from December 10, 2012 to December 21, 2012. The IBP was established in the Omnibus Trade and Competitiveness Act of 1988 (Pub. L. 100-418, codified at 15 U.S.C. 4724) to bring international buyers together with U.S. firms by promoting leading U.S. trade shows in industries with high export potential. The IBP emphasizes cooperation between the DOC and trade show organizers to benefit U.S. firms exhibiting at selected events and provides practical, hands-on assistance such as export counseling and market analysis to U.S. companies interested in exporting. Specifically, through the IBP, the DOC selects domestic trade shows which will receive DOC assistance in the form of global promotion in foreign markets, providing export counseling to exhibitors, and providing export counseling and matchmaking services at the trade show. This notice covers selection for IBP participation during calendar year 2014. It also extends the deadline for applications to a new pilot initiative for the IBP, which will allow up to 20% of the 2014 IBP shows to be preselected for IBP participation in calendar year 2015 (January 1, 2015 through December 31, 2015) without having to reapply for the second year. Eligibility for this pilot initiative is limited to annual trade shows that participated in the IBP in calendar years 2011 or 2012. Applicants interested in being considered for this pilot must indicate so in the application. For more information about the IBP, including eligibility, participation fees, the responsibilities of the show organizers and the DOC, and how to apply, please see the prior notice, which is also available on the IBP Web site http://www.export.gov/IBP.

DATES: Applications for the IBP must be received by December 21, 2012.

ADDRESSES: The IBP application may be downloaded from http://www.export.gov/IBP. Applications may be submitted by any of the following methods: (1) Mail/Hand Delivery Service: International Buyer Program, Trade Promotion Programs, U.S. and Foreign Commercial Service, International Trade Administration, U.S. Department of Commerce, Ronald Reagan Building, 1300 Pennsylvania Ave. NW., Suite 800M—Mezzanine Level—Atrium North, Washington DC 20004. Telephone (202) 482-0691; (2) Facsimile: (202) 482-7800; or (3) email: IBP2014@trade.gov. Facsimile and email applications will be accepted as interim applications, but must be followed by a signed original application that is received by the program no later than five (5) business days after the application deadline. To ensure that applications are timely received by the deadline, applicants are strongly urged to send applications by hand delivery service (e.g., U.S. Postal Service Express Delivery, Federal Express, UPS, etc.).

FOR FURTHER INFORMATION CONTACT: Gary Rand, Acting Director, International Buyer Program, Trade Promotion Programs, U.S. and Foreign Commercial Service, International Trade Administration, U.S. Department of Commerce, 1300 Pennsylvania Ave. NW., Ronald Reagan Building, Suite 800M—Mezzanine Level—Atrium North, Washington DC 20004; Telephone (202) 482-0691; Facsimile: (202) 482-7800; Email: IBP2014@trade.gov.

Elnora Moye,
Trade Program Assistant.

[FR Doc. 2012-30250 Filed 12-17-12; 8:45 am]

BILLING CODE 3510-DS-P